DEPARTMENT OF ENERGY

Federal Energy Regulatory Commission

[Project No. 1988-079]

Pacific Gas and Electric Company; Notice of Application for Amendment of License and Soliciting Comments, Motions To Intervene, and Protests

Take notice that the following hydroelectric application has been filed with the Commission and is available for public inspection:

a: Application Type: Request for temporary variance of the flow requirement, pursuant to Article 402 of the Haas-Kings River Hydroelectric Project.

b: Project No.: 1988-079.

c: Date Filed: July 15, 2011.

d: Applicant: Pacific Gas and Electric Company.

e: Name of Project: Haas-King River Hydroelectric Project (P-1988).

f: Location: The Haas-King River Hydroelectric Project is located on the North Fork Kings River in Fresno County, near Fresno, California.

g. Filed Pursuant to: Federal Power Act, 16 U.S.C. 791(a)-825(r).

h: Applicant Contact: Mr. Neil J. Wong, Pacific Gas and Electric Company, 245 Market Street, San Francisco, California 94105, Tel: (415) 973-2109.

i. FERC Contact: Alyssa Dorval, (212) 273-5955, Alyssa.Dorval@ferc.gov.

j. Deadline for filing comments, motions to intervene, and protests: 15 days from the issuance date of this notice.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426. Please include the project number (P-1988-079) on any documents or motions filed.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: Pursuant to Article 402 of the project license, Pacific Gas and Electric Company (PG&E) is required to request a temporary amendment of flows from FERC if the departure from flows lasts for more than two weeks. PG&E is planning to repair a damaged 60-inch low level outlet (LLO) gate at the Balch Project's (FERC No. 175)) Balch Afterbay Dam, which has been stuck in the partially open position since early January 2011. In order to make the repairs, PG&E will need to depart from the minimum instream flows at the Dinkey Creek Siphon and at the Confluence of Dinkey Creek and the North Fork Kings River. During the repairs, PG&E will need to draw down the forebay and drain the Kings River Tunnel in a controlled manner. It is estimated that the period of no release from Dinkey Creek Siphon could last approximately 4 weeks. In addition to the absence of a release from Dinkey Creek Siphon, the flow requirement below the Balch Afterbay Dam will be met by diverting flows through a bypass system that will be constructed to allow the movement of water around the construction area. It is estimated that the minimum flow requirement of 15 cubic feet per second (cfs) will be met, and PG&E will attempt to release an additional 5-10 cfs from the bypass into the Kings River.

l. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via e-mail of new filings and issuances related to this or other pending projects. For assistance, contact FERC Online Support.

m. Individuals desiring to be included on the Commission's mailing list should so indicate by writing to the Secretary of the Commission.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Any filings must bear in all capital letters the title “COMMENTS,” “PROTEST,” or “MOTION TO INTERVENE,” as applicable, and the Project Number of the particular application to which the filing refers. A copy of any motion to intervene must also be served upon each representative of the Applicant specified in the particular application.

Federal, state, and local agencies are invited to file comments on the described application. A copy of the application may be obtained by agencies directly from the applicant. If an agency does not file comments within the time specified for filing comments, it will be presumed to have no comments. One copy of an agency's comments must also be sent to the Applicant's representatives.

Dated: July 26, 2011.
Nathaniel J. Davis, Sr.,
Deputy Secretary.

[FR Doc. 2011-19467 Filed 8-1-11; 8:45 am]

BILLING CODE 6717-01-P